DEPARTMENT OF THE INTERIOR

Bureau of Indian Affairs

[190A2100DD/AAKC001030/A0A501010.999900.253G]

Notice To Acquire Land Into Trust for the Confederated Tribes of the Grand Ronde Community of Oregon

AGENCY: Bureau of Indian Affairs, Interior.

ACTION: Notice of final agency determination.

SUMMARY: The Assistant Secretary—Indian Affairs has made a final determination to acquire 25.49 acres, more or less into trust for the Confederated Tribes of the Grand Ronde Community of Oregon on October 31, 2018.

FOR FURTHER INFORMATION CONTACT: Ms. Sharlene M. Round Face, Bureau of Indian Affairs, Division of Real Estate Services, 1849 C Street NW, MS-4642-MIB, Washington, DC 20240, telephone (202) 208-3615.

SUPPLEMENTARY INFORMATION: This notice is published in the exercise of authority delegated by the Secretary of the Interior to the Assistant Secretary—Indian Affairs by part 209 of the Departmental Manual, and is published to comply with the requirement of 25 CFR 151.12(c)(2)(ii) that notice of the decision to acquire land in trust be promptly published in the Federal Register.

On October 31, 2018, the Assistant Secretary—Indian Affairs issued a decision to accept land in trust for Confederated Tribes of the Grand Ronde Community of Oregon under the authority of The Grand Ronde Restoration Act of November 22, 1983, Public Law 98-165 and Section 5 of the Indian Reorganization Act of 1934 (48 Stat. 984).

Confederated Tribes of the Grand Ronde Community of Oregon, Tillamook County, Oregon

Legal Descriptions Containing 25.49 Acres, More or Less

The land referred to as former “Kilchis Point Property” property, herein and is described as: Tax Lots 100 and 200 Township 1S, Range 10W, Section 2—Kilchis Point property

Parcel 1: Beginning at the Southwest corner of Lot 9, Block 5, Barview Addition to Bay City and the P.O.B. of the following described tract; thence East to the Southeast corner of said Lot 9; thence South to the Southwest corner of Lot 7, Block 10, Barview Addition to Bay City; thence East to the Southeast corner of said Lot 7; thence South to the Southwest corner of Lot 6, Block 13, Barview Addition to Bay City; thence East to the Southeast corner of said Lot 6; thence South to the Southwest corner of Lot 12, Block 13, Barview Addition to Bay City; thence East to the Southeast corner of said Lot 12; thence South along the West lines of Lots 4 and 13, Block 19, and Lots 4 and 13, Block 22 to the South line of Kelchis Street; thence West to the Southwest corner of Adams Street and Kelchis Street; thence North along the West sideline of Adams Street to a point West of the Northwest corner of Lot 8, Block 13, Barview Addition, said point being at the intersection of the West sideline and the Westerly extension of the South line of Clam Street; thence West to the line of mean low water of Tillamook Bay; thence in a Northwesterly direction along the line of mean low water of Tillamook Bay to a point that bears West of the Northwest corner of Lot 6, Block 7, Cone and McCoy's Addition; thence East to the line of mean high water of Tillamook Bay; thence in a Southerly direction along the line of mean high water of Tillamook Bay to the P.O.B.

Parcel 2: Government Lot 1, in Section 3, Township 1 South, Range 10 West of the Willamette Meridian, Tillamook County, Oregon.

Excepting therefrom any portion of said lot lying within the boundaries of the property conveyed to The Confederated Tribes of the Grand Ronde Community of Oregon by Warranty Deed recorded September 2, 2015, Instrument No. 2015-005452, Records of Tillamook County, Oregon.

Dated: October 31, 2018.
Tara Sweeney,
Assistant Secretary—Indian Affairs.

[FR Doc. 2018-25692 Filed 11-23-18; 8:45 am]

BILLING CODE 4337-15-P